DEPARTMENT OF JUSTICE

Drug Enforcement Administration

21 CFR Part 1310

[Docket No. DEA-137f2]

RIN 1117-AA31

Exemption of Chemical Mixtures; Correction

AGENCY: Drug Enforcement Administration (DEA), Justice.

ACTION: Final rule with request for comment; correction.

SUMMARY: This document corrects the Final Rule with request for comment “Exemption of Chemical Mixtures” [Docket No. DEA-137f2, RIN 1117-AA31] which DEA published in the Federal Register on Wednesday, December 15, 2004 (69 FR 74957). The Final Rule concerned the exemption of certain chemical mixtures containing listed chemicals from the provisions of the Controlled Substances Act.

DATES: This correction is effective January 14, 2005.

FOR FURTHER INFORMATION CONTACT: Christine A. Sannerud, Ph.D., Chief, Drug and Chemical Evaluation Section, Office of Diversion Control, Drug Enforcement Administration, Washington, DC 20537, Telephone (202) 307-7183

SUPPLEMENTARY INFORMATION:

Background

On Wednesday, December 15, 2004, DEA published a Final Rule with request for comment entitled “Exemption of Chemical Mixtures” in the Federal Register (69 FR 74957). The aspect of the Final Rule subject to this correction concerns the amendatory instructions for 21 CFR 1310.04 in which DEA indicated that “Section 1310.04 is to be amended by revising paragraph (h) and adding new paragraphs (i) and (j)”. However, it was not DEA's intent to add new paragraphs (i) and (j). DEA only intended to revise paragraph (h). Therefore, to alleviate any confusion which might arise regarding these amendatory instructions, DEA is correcting the amendatory instructions for 21 CFR 1310.04. No substantive changes to 21 CFR 1310.04 are occurring in this correction.

Accordingly, the publication on Wednesday, December 15, 2004 of the Final Rule with request for comment [Docket No. DEA-137f2, RIN 1117-AA31], which was the subject of FR Doc. 04-27449, is corrected as follows:

PART 1310—[CORRECTED]

1. On page 74970, amendatory instruction 2 is corrected to read as follows: “2. Section 1310.04 is amended by revising paragraph (h) to read as follows:”

Dated: December 27, 2004.
William J. Walker,
Deputy Assistant Administrator, Office of Diversion Control.

[FR Doc. 05-57 Filed 1-3-05; 8:45 am]

BILLING CODE 4410-09-P]